DEPARTMENT OF HEALTH AND HUMAN SERVICES

Centers for Disease Control and Prevention (CDC)

Board of Scientific Counselors, National Center for Public Health Informatics (BSC, NCPHI)

In accordance with section 10(a)(2) of the Federal Advisory Committee Act (Pub. L. 92-463), the CDC announces the following meeting of the aforementioned committee:

Time and Date: 8:30 a.m.-5 p.m., May 26, 2009.

Place: Swan & Dolphin Hotel, 1500 Epcot Resorts Boulevard, Lake Buena Vista, Florida 32830. Audio conference call via FTS conferencing. The USA toll free dial in number is 1-866-713-5586, with a participant pass code of 4624038.

Status: Open to the public, limited only by the space available.

Purpose: The committee will meet to conduct BSC, NCPHI business.

The Director, Management Analysis and Services Office, has been delegated the authority to sign Federal Register notices pertaining to announcements of meetings and other committee management activities, for both CDC and the Agency for Toxic Substances and Disease Registry.

Dated: May 4, 2009.
Elaine L. Baker,
Director, Management Analysis and Services Office, Centers for Disease Control and Prevention.

Matters To Be Discussed: To discuss BSC, NCPHI-related matters including: update on BioSense; re-formation of three BSC working groups; and various other BSC-related activities. Agenda items are subject to change as priorities dictate.

Contact Person for More Information: Scott McNabb, Ph.D., Designated Federal Officer, NCPHI, CDC, 1600 Clifton Road, NE., Mailstop E-78, Atlanta, Georgia 30333, Telephone: (404)498-6427, Fax (404)498-6235.

[FR Doc. E9-10738 Filed 5-7-09; 8:45 am]

BILLING CODE 4163-18-P